DEPARTMENT OF TRANSPORTATION

Maritime Administration

Marine Transportation System National Advisory Council

ACTION: Notice of public meeting.

SUMMARY: The Maritime Administration announces that the Marine Transportation System National Advisory Council (MTSNAC) will hold a meeting to discuss MTS needs and other relevant issues, regional MTS outreach initiatives, Short Sea Shipping, Council team assignments, and other issues. A public comment period is scheduled for 8:30 a.m. to 9 a.m. on Friday, November 19, 2004. To provide time for as many people to speak as possible, speaking time for each individual will be limited to three minutes. Members of the public who would like to speak are asked to contact Richard J. Lolich by November 10, 2004. Commenters will be placed on the agenda in the order in which notifications are received. If time allows, additional comments will be permitted. Copies of oral comments must be submitted in writing at the meeting. Additional written comments are welcome and must be filed by November 26, 2004.

DATES: The meeting will be held on Thursday, November 18, 2004, from 1 p.m. to 5 p.m. and Friday, November 19, 2004, from 8:30 a.m. to 3 p.m.

ADDRESSES: The meeting will be held in the Holiday Inn Capitol, 550 C Street, SW., Washington, DC 20024. The hotel's phone number is (202) 479-4000.

FOR FURTHER INFORMATION CONTACT: Richard Lolich, (202) 366-4357; Maritime Administration, MAR-830, Room 7201, 400 Seventh St., SW., Washington, DC 20590; richard.lolich@marad.dot.gov.

(Authority: 49 CFR 1.66)

Dated: October 27, 2004.
Joel C. Richard,
Secretary, Maritime Administration.

[FR Doc. 04-24367 Filed 11-1-04; 8:45 am]

BILLING CODE 4910-81-P